COMMISSION ON CIVIL RIGHTS

Agenda and Notice of Public Meeting of the Hawaii Advisory Committee

Notice is hereby given, pursuant to the provisions of the rules and regulations of the U.S. Commission on Civil Rights (Commission), and the Federal Advisory Committee Act (FACA), that a planning meeting of the Hawaii Advisory Committee to the Commission will convene at 10 a.m. and adjourn at approximately 1 p.m. on Thursday, September 24, 2009, at the Hilton Hawaiian Village, 2005 Kalia Road, Honolulu, Hawaii. The purpose of the meeting is to plan Committee projects for the coming 2010 fiscal year.

Members of the public are entitled to submit written comments; the comments must be received in the regional office by October 31, 2009. The address is 300 N. Los Angeles St., Suite 4333, Los Angeles, California 90012. Persons wishing to email their comments or who desire additional information should contact Peter Minarik, Regional Director, at (213) 894-3437 or 800-877-8339 for individuals who are deaf, hearing impaired, and/or have speech disabilities or by email to pminarik@usccr.gov.

Hearing-impaired persons who will attend the meeting and require the services of a sign language interpreter should contact the Regional Office at least ten (10) working days before the scheduled date of the meeting.

Records generated from this meeting may be inspected and reproduced at the Western Regional Office, as they become available, both before and after the meeting. Persons interested in the work of this advisory committee are advised to go to the Commission's Web site, http://www.usccr.gov, or to contact the Western Regional Office at the above email or street address.

The meeting will be conducted pursuant to the provisions of the rules and regulations of the Commission and FACA.

Dated in Washington, DC, September 3, 2009.
Peter Minarik,
Acting Chief, Regional Programs Coordination Unit.

[FR Doc. E9-21834 Filed 9-9-09; 8:45 am]

BILLING CODE 6335-01-P